DEPARTMENT OF JUSTICE

Office of Justice Programs

[OMB Number 1121-NEW]

Agency Information Collection Activities; Proposed Collection; Comment Request: Methodological Research to Support the National Crime Victimization Survey: Self-Report Data on Rape and Sexual Assault—Pilot Test

ACTION: Correction; 60-day notice.

This is a correction to a 60 day notice published August 9, 2013, FR 78, page 48720. The notice should have stated a comment period for 60 days from the publication date not 30 days. The Department of Justice (DOJ), Office of Justice Programs (OJP), Bureau of Justice Statistics (BJS) will be submitting the following information collection request to the Office of Management and Budget (OMB) for review and approval in accordance with the Paperwork Reduction Act of 1995. The proposed information collection is published to obtain comments from the public and affected agencies. Comments are encouraged and will be accepted for October 15, 2013. This process is in accordance with 5 CFR 1320.10.

If you have comments especially on the estimated public burden or associated response time, suggestions, or need a copy of the proposed information collection instrument with instructions or additional information, please contact Shannan Catalano, Statistician (202) 616-3502, Bureau of Justice Statistics, 810 Seventh St. NW., Washington, DC 20531.

Written comments and suggestions from the public and affected agencies concerning the proposed collection of information should address one or more of the following four points:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g. permitting electronic submission of responses.

Overview of This Information Collection:

(1) Type of information collection: New collection under activities related to the National Crime Victimization Survey Redesign Research (NCVS-RR) program: Methodological Research to Support the National Crime Victimization Survey: Self-Report Data on Rape and Sexual Assault—Pilot Test.

(2) Title of the Form/Collection: National Survey on Health and Safety (NSHS).

(3) Agency form number, if any, and the applicable component of the department sponsoring the collection: NSHS1, NSHS2, NSHS3, and NSHS4, Bureau of Justice Statistics, Office of Justice Programs, Department of Justice.

(4) Affected public who will be asked or required to respond, as well as a brief abstract. Primary: Females ages 18 or older in 5 Core Based Statistical Areas (CBSAs) in the United States. These CBSAs include—

• New York-Northern New Jersey-Long Island, NY-NJ-PA;

• Los Angeles-Long Beach-Santa Ana, CA;

• Miami-Fort Lauderdale-Pompano Beach, FL;

• Dallas-Fort Worth-Arlington-TX; and

• Phoenix-Mesa-Glendale, AZ.

The NSHS will test alternative survey methods for measuring rape and sexual assault and develop improved collection procedures for these crimes.

(5) An estimate of the total number of respondents and the amount of time estimated for an average respondent to respond/reply:

• Approximately 50 victim service agencies, and 100 universities and colleges will be contacted to serve as liaisons between potential respondents about the survey. The average length of contact with these agencies is approximately 120 minutes per agency for a total of 300 burden hours.

• Approximately, 76,740 households will be contacted to screen for eligible participants. The expected burden placed on these households is 4 minutes per household for a total of 5,116 burden hours.

• Approximately 19,320 females ages 18 or older will be interviewed for eligibility in the NSHS. The screening portion of the NSHS is designed to filter out those females who have not experienced rape or sexual assault. The expected burden placed on these 19,320 respondents is 18 minutes per respondent for a total of 5,796 burden hours.

• An estimated 1,352 respondent (7%) are expected to be identified as victims of rape or sexual assault. These respondents will be administered a detailed incident questionnaire. The expected burden placed on these respondents is 15 minutes for a total of 338 burden hours.

(6) An estimate of the total public burden (in hours) associated with the collection: The total respondent burden is approximately 11,550 hours.

If additional information is required, contact: Jerri Murray, Department Clearance Officer, United States Department of Justice, Justice Management Division, Policy and Planning Staff, Two Constitution Square, 145 N Street NE., Room 3W-1407B, Washington, DC 20530.

Dated: August 13, 2013.
Jerri Murray,
Department Clearance Officer for PRA, United States Department of Justice.

[FR Doc. 2013-19955 Filed 8-15-13; 8:45 am]

BILLING CODE 4410-18-P